DEPARTMENT OF LABOR

Employment and Training Administration

[TA-W-55,084]

Eastman Chemical Company, Jefferson Plant, West Elizabeth, PA; Notice of Termination of Investigation

Pursuant to section 221 of the Trade Act of 1974, an investigation was initiated on June 16, 2004, in response to a petition filed by a company official on behalf of workers at Eastman Chemical Company, Jefferson Plant, West Elizabeth, Pennsylvania. The petitioner has requested that the petition be withdrawn. Consequently, the investigation has been terminated.

Signed in Washington, DC, this 22nd day of June, 2004.
Elliott S. Kushner,
Certifying Officer, Division of Trade Adjustment Assistance.

[FR Doc. 04-15313 Filed 7-6-04; 8:45 am]

BILLING CODE 4510-30-P